DEPARTMENT OF TRANSPORTATION

Federal Aviation Administration

14 CFR Part 71

[Docket No. FAA-2015-1137; Airspace Docket No. 15-ANM-4]

Amendment of Class E Airspace; Portland, OR

AGENCY: Federal Aviation Administration (FAA), DOT.

ACTION: Final rule.

SUMMARY: This action modifies Class E surface area airspace designated as an extension to Class C airspace, and Class E airspace extending upward from 700 feet above the surface at Portland International Airport, Portland, OR. After reviewing the airspace, the FAA found the Portland VHF omnidirectional radio range/distance measuring equipment (VOR/DME) and Laker non-directional beacon (NDB) has been decommissioned, thereby necessitating airspace redesign for the safety and management of Instrument Flight Rules (IFR) operations at the airport. This action also corrects the geographic coordinates of the airport.

DATES: Effective 0901 UTC, December 10, 2015. The Director of the Federal Register approves this incorporation by reference action under title 1, Code of Federal Regulations, part 51, subject to the annual revision of FAA Order 7400.9 and publication of conforming amendments.

ADDRESSES: FAA Order 7400.9Z, Airspace Designations and Reporting Points, and subsequent amendments can be viewed online at http://www.faa.gov/air_traffic/publications/. For further information, you can contact the Airspace Policy and ATC Regulations Group, Federal Aviation Administration, 800 Independence Avenue SW., Washington DC 29591; telephone: 202-267-8783. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15.

FOR FURTHER INFORMATION CONTACT: Steve Haga, Federal Aviation Administration, Operations Support Group, Western Service Center, 1601 Lind Avenue SW., Renton, WA 98057; telephone (425) 203-4563.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Portland International Airport, Portland, OR.

History

On July 20, 2015, the FAA published in the Federal Register a notice of proposed rulemaking (NPRM) to modify Class E surface area airspace designated as an extension to the Class C airspace, and Class E airspace extending upward from 700 feet above the surface at Portland International Airport, Portland, OR, (80 FR 42760). Interested parties were invited to participate in this rulemaking effort by submitting written comments on the proposal to the FAA. No comments were received. Subsequent to publication, the FAA found minor latitudinal and longitudinal adjustments were required to ensure sectional chart accuracy. The 2.7 mile references are changed to 3 miles to compensate for calculation differences between nautical and statute miles. These errors have been corrected in this document.

Class E airspace designations are published in paragraph 6003 and 6005, respectively, of FAA Order 7400.9Z, dated August 6, 2015, and effective September 15, 2015, which is incorporated by reference in 14 CFR 71.1. The Class E airspace designation listed in this document will be published subsequently in the Order.

Availability and Summary of Documents for Incorporation by Reference

This document amends FAA Order 7400.9Z, airspace Designations and Reporting Points, dated August 6, 2015, and effective September 15, 2015. FAA Order 7400.9Z is publicly available as listed in the ADDRESSES section of this final rule. FAA Order 7400.9Z lists Class A, B, C, D, and E airspace areas, air traffic service routes, and reporting points.

The Rule

This amendment to Title 14, Code of Federal Regulations (14 CFR) part 71 modifies Class E airspace designated as an extension to Class C airspace, and Class E airspace extending upward from 700 feet above the surface at Portland International Airport, Portland, OR. A review of the airspace revealed modification necessary due to the decommissioned Portland VOR/DME and Laker NDB navigation aids. Also, the geographic coordinates of the airport are amended to coincide with the FAA's aeronautical database.

Class E airspace designated as an extension to Class C airspace is modified to an area 4.7 miles west and 4 miles east of the 044° bearing from Portland International Airport extending to 18 miles northeast of the airport. The lateral boundary for Class E airspace extending upward from 700 feet above the surface is defined utilizing latitudinal and longitudinal reference points instead of navigation aids. This does not change the lateral boundaries or operating requirements of the airspace.

Regulatory Notices and Analyses

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.9Z, Airspace Designations and Reporting Points, dated August 6, 2015, and effective September 15, 2015, is amended as follows:

Paragraph 6003 Class E Airspace Areas Designated as an Extension

* * * * *

ANM OR E3 Portland, OR [Modified]

Portland International Airport, OR

(Lat. 45°35′19″ N., long. 122°35′49″ W.)

That airspace extending upward from the surface bounded by a line beginning at lat. 45°40′12″ N., long. 122°37′24″ W.; to lat. 45°41′14″ N., long. 122°37′21″ W.; to lat. 45°51′45″ N., long. 122°22′16″ W.; to lat. 45°45′40″ N., long. 122°13′32″ W.; to lat. 45°35′13″ N., long. 122°28′42″ W.; thence counter-clockwise along the 5-mile radius of Portland International Airport to the point of beginning.

Paragraph 6005 Class E Airspace Areas Extending Upward From 700 Feet or More Above the Surface of the Earth

* * * * *

ANM OR E5 Portland, OR [Modified]

Portland International Airport, OR

(Lat. 45°35′19″ N., long. 22°35′49″ W.)

McMinnville, McMinnville Municipal Airport, OR

(Lat. 45°11′40″ N., long. 123°08′10″ W.)

That airspace extending upward from 700 feet above the surface bounded by a line beginning at lat. 45°59′59″ N., long. 123°30′04″ W.; to lat. 46°00′00″ N., long. 122°13′00″ W.; thence via an 8.5-mile radius centered at lat. 45°55′07″ N., long. 122°03′02″ W. clockwise to lat. 45°46′39″ N., long. 122°04′00″ W.; thence via a line south to lat. 45°09′59″ N., long. 122°04′00″ W.; thence to lat. 45°09′59″ N., long. 123°02′34″ W.; to lat. 45°09′59″ N., long. 123°30′04″ W.; thence to the point of beginning; and within a 4.3-mile radius of McMinnville Municipal Airport; and within 2 miles each side of the 215° bearing from McMinnville Municipal Airport to 8.1 miles south of the airport; and that airspace extending upward from 1,200 feet above the surface bounded by a line beginning at lat. 46°30′29″ N., long. 124°06′51″ W.; to lat. 46°30′29″ N., long. 120°29′40″ W.; to lat. 45°42′49″ N., long. 121°06′03″ W.; to lat. 44°15′10″ N., long. 121°18′13″ W.; to lat. 44°29′59″ N., long. 123°17′38″ W.; to lat. 44°29′59″ N., long. 124°08′036″ W. to a point 3 miles offshore; thence along a line 3 miles offshore to the point of beginning.

Issued in Seattle, Washington, on September 21, 2015.
Christopher Ramirez,
Manager, Operations Support Group, Western Service Center.

[FR Doc. 2015-24434 Filed 9-25-15; 8:45 am]

BILLING CODE 4910-13-P